DEPARTMENT OF THE INTERIOR

National Park Service

Final Environmental Impact Statement; Marin Headlands—Fort Baker Transportation Infrastructure and Management Plan; Golden Gate National Recreation Area; Marin County, CA; Notice of Approval of Record of Decision

SUMMARY: Pursuant to section 102(2)(c) of the National Environmental Policy Act of 1969 (Pub. L. 91-190, as amended) and the regulations promulgated by the Council on Environmental Quality (40 CFR 1505.2), the Department of the Interior, National Park Service has prepared and approved a Record of Decision (and Wetlands Statement of Findings) for the Final Environmental Impact Statement (Final EIS) for Transportation Infrastructure and Management Plan for Marin Headlands and Fort Baker areas of Golden Gate National Recreation Area. The requisite no-action “wait period” was initiated March 20, 2009, with the Environmental Protection Agency's Federal Register notification of the filing of the Final EIS.

Decision: As soon as practical Golden Gate National Recreation Area will begin to (1) rehabilitate or reconstruct roadway infrastructure and improve parking facilities; (2) provide for enhanced transit options; (3) protect or enhance wetlands and sensitive species habitat; (4) improve hiking trails and bicycle access; and (5) implement other resource stewardship strategies and area improvements identified and analyzed as the Preferred Alternative (Alternative 3) presented in the Final EIS. The full range of foreseeable environmental consequences was assessed, and appropriate mitigation measures identified. Both a No Action alternative and two additional “action” alternatives were also identified and analyzed. The selected alternative was deemed to be the “environmentally preferred” course of action.

Copies: Interested parties desiring to review the Record of Decision may obtain a copy by contacting the Superintendent, Golden Gate National Recreation Area, Building 201, Fort Mason, San Francisco, CA 94123 or via telephone request at (415) 561-2841.

Dated: November 11, 2009.
Jonathan B. Jarvis,
Regional Director, Pacific West Region.

[FR Doc. E9-28053 Filed 11-20-09; 8:45 am]

BILLING CODE P